DEPARTMENT OF ENERGY

Federal Energy Regulatory Commission

[Docket No. IC20-22-000]

Commission Information Collection Activities (FERC-588); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-588 (Emergency Natural Gas Transportation, Sale, and Exchange Transactions), and is submitting the information collection to the Office of Management and Budget (OMB) for review. Any interested person may file comments directly with OMB and should address a copy of those comments to the Commission as explained below.

DATES: Comments on the collection of information are due December 7, 2020.

ADDRESSES: Send written comments on FERC-588 to OMB through www.reginfo.gov/public/do/PRAMain, Attention: Federal Energy Regulatory Commission Desk Officer. Please identify the OMB control number (1902-0144) in the subject line. Your comments should be sent within 30 days of publication of this notice in the Federal Register.

Please submit copies of your comments to the Commission (identified by Docket No. IC20-22-000) by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852. Instructions:

OMB submissions must be formatted and filed in accordance with submission guidelines at www.reginfo.gov/public/do/PRAMain; Using the search function under the Currently Under Review field, select Federal Energy Regulatory Commission; click submit and select comment to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-588 (Emergency Natural Gas Transportation, Sale, and Exchange Transactions).

OMB Control No.: 1902-0144.

Type of Request: Three-year extension of the FERC-588 information collection requirements with no changes to the current reporting and recordkeeping requirements.

Abstract: FERC-588 is an existing information collection consisting of filing requirements and notice procedures at 18 CFR 157.17 and 284.270. These regulations pertain to non-jurisdictional companies' assistance in natural gas emergency circumstances. The non-jurisdictional companies that assist in such emergency transactions must file information with the Commission under 18 CFR 284.270, so that the Commission may ensure compliance with relevant legal requirements. An interstate pipeline that seeks an emergency certificate for facilities must file an application under 18 CFR 157.17.

On July 17, 2020, the Commission published a Notice in the Federal Register (85 FR 43579) in Docket No. IC20-22-000 requesting public comments. The Commission received no public comment in response.

Types of Respondents: Providers and recipients of assistance in natural gas emergency circumstances.

Estimate of Annual Burden: ¹ The Commission estimates the total annual burden and cost ² for this information collection in the following table:

¹ Burden is the total time, effort, or financial resources expended by persons to generate, maintain, retain, or disclose or provide information to or for a Federal agency. For further explanation of what is included in the information collection burden, refer to 5 CFR 1320.3.

² The Commission staff believes that industry and Commission staff are similarly situated in terms of cost for wages and benefits. Therefore, we are using $83.00 per hour in this calculation. That is the 2020 average hourly cost, for wages plus benefits, for one FERC full-time equivalent.

Number of respondents | Annual number of responses per respondent | Total number of responses | Average burden (hr.) and cost ($) per response | Total annual burden (hr.) and cost ($)
A. | B. | C. (Col. A × Col. B) | D. | E. (Col. C × Col D)
10 | 3 | 30 | 10 hrs; $830 | 300 hrs.; $24,900

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 30, 2020.
Nathaniel J. Davis, Sr.,
Deputy Secretary.

[FR Doc. 2020-24551 Filed 11-4-20; 8:45 am]

BILLING CODE 6717-01-P